DEPARTMENT OF COMMERCE

National Oceanic and Atmospheric Administration

RIN 0648-AW75

Fisheries of the Northeastern United States; Atlantic Herring Fishery; Scoping Process

AGENCY: National Marine Fisheries Service (NMFS), National Oceanic and Atmospheric Administration (NOAA), Commerce.

ACTION: Notice of intent to prepare an environmental impact statement (EIS) and notice of initiation of scoping process; request for comments.

SUMMARY: The New England Fishery Management Council (Council) announces its intent to prepare an amendment (Amendment 4) to the Fishery Management Plan (FMP) for Atlantic Herring and to prepare an EIS to analyze the impacts of any proposed management measures. The goals of the amendment are to improve monitoring of catch in the Atlantic herring (herring) fishery and to manage the fishery at long-term sustainable levels, consistent with the Magnuson-Stevens Fishery Conservation and Management Act (MSA). The Council is initiating a public process to determine the scope of alternatives to be addressed in the amendment and EIS. NMFS is alerting the interested public of the commencement of the scoping process and providing for public participation in compliance with environmental documentation requirements.

DATES: Written and electronic scoping comments must be received on or before 5 p.m., local time, June 30, 2008.

ADDRESSES: Written comments on Amendment 4 may be sent by any of the following methods:

• E-mail to the following address: HerringAmendment4@noaa.gov;

• Mail to Patricia A. Kurkul, Regional Administrator, NMFS, Northeast Regional Office, One Blackburn Drive, Gloucester, MA 01930. Mark the outside of the envelope “Scoping Comments on Herring Amendment 4;” or

• Fax to Patricia A. Kurkul, 978-281-9135.

Requests for copies of the scoping document and other information should be directed to Paul J. Howard, Executive Director, New England Fishery Management Council, 50 Water Street, Mill 2, Newburyport, MA 01950, telephone 978-465-0492. The scoping document is accessible electronically via the Internet at http://www.nefmc.org.

FOR FURTHER INFORMATION CONTACT: Paul J. Howard, Executive Director, New England Fishery Management Council, 978-465-0492.

SUPPLEMENTARY INFORMATION:

Background

The U.S. herring fishery is managed as one stock complex along the East Coast from Maine to Cape Hatteras, NC, although evidence suggests that separate spawning components exist within the stock complex. The Council and the Atlantic States Marine Fisheries Commission (ASMFC) adopted management measures for the herring fishery in state and Federal waters in 1999, and NMFS approved most of the management measures in the Herring FMP on October 27, 1999. The Herring FMP became effective on January 10, 2001.

The state and Federal management plans contain similar management measures. The state and Federal management plans for herring establish total allowable catches (TACs) levels in each of four management areas. Under ASFMC's management plan, there are spawning area restrictions and requirements for vessels to take specified days out of the fishery for state waters. Both plans include limits on the size of vessels that can take, catch, or harvest herring. Each plan includes administrative elements, such as requirements for vessel, dealer, and processor permits and reporting requirements.

Amendment 1 to the Herring FMP was developed by the Council and became effective on June 1, 2007. It established elements of a limited access program for the herring fishery and a seasonal purse seine and fixed gear-only area in the inshore Gulf of Maine. Several additional management measures were also included which primarily addressed issues related to the herring fishery specifications, management area boundaries, fixed gear fisheries for herring, and the regulatory definition of midwater trawl gear.

Amendment 2 to the Herring FMP was part of an omnibus amendment developed by NMFS to ensure that all FMPs of the Northeast Region comply with the Standardized Bycatch Reporting Methodology (SBRM) requirements of the MSA. The purpose of the SBRM amendment was to: (1) Explain the methods and processes by which bycatch is currently monitored and assessed for Northeast Region fisheries; (2) determine whether these methods and processes need to be modified and/or supplemented; (3) establish standards of precision for bycatch estimation for all Northeast Region fisheries; and (4) document the SBRMs established for all fisheries managed through the FMPs of the Northeast Region.

Amendment 3 to the Herring FMP is currently under development by the Council and represents an omnibus amendment to all Council FMPs to address Essential Fish Habitat (EFH) consistent with the MSA. The amendment proposes to redefine, refine, or update the identification and description of all EFH for those species of finfish and mollusks managed by the Council, and identify and implement mechanisms to minimize to the extent practicable the adverse effects of fishing on the EFH.

For Federal waters, the Council developed, and NMFS, approved 3-year specifications (2007-2009) that specify an Allowable Biological Catch (ABC) of 194,000 mt and established an optimum yield (OY) of 145,000 mt for the herring fishery. Based on data and analysis presented in the most recent stock assessment and at the 2006 Transboundary Resource Assessment Committee (TRAC) Meeting, the Area 1A TAC was reduced from 60,000 mt to 50,000 mt for 2007, and 45,000 mt for 2008 and 2009. The Area 3 TAC was set at 55,000 mt in 2007, and increased to 60,000 mt in 2008 and 2009. The Area 1B and Area 2 TACs were set at 10,000 mt and 30,000 mt, respectively, and remain constant during the 3-year specification period.

Additional management measures are being considered in Amendment 4 to the Herring FMP for several reasons. The original Herring FMP and Amendment 1 represent important milestones in the Council's efforts to maintain a sustainably managed herring fishery throughout the Northeast. Recently, concerns about the fishery have led the Council to determine that additional action is needed to further address issues related to the health of the herring resource throughout its range, how the resource is harvested, how catch/bycatch are accounted for, and the important role of herring as a forage fish in the Northeast region. These concerns are reflected in the unprecedented level of interest in managing this fishery by New England's commercial and recreational fishermen, eco-tourism and shoreside businesses, and the general public.

Finally, the Magnuson-Stevens Fishery Conservation and Management Reauthorization Act of 2006 (MSRA) requires that NMFS and the Councils establish Annual Catch Limits (ACLs) and Accountability Measures (AMs) by the year 2011 for every federally managed fishery that is not subject to overfishing. The MSRA also includes new provisions for the formation of Limited Access Privilege Programs (LAPPs). Amendment 4 is therefore necessary to update the Herring FMP in a manner that is consistent with the new requirements of the MSRA.

Measures Under Consideration

The Herring Committee and the Council, through public meetings and after taking public comment, have identified a set of goals and objectives for this management action. In general, the goal of the amendment is to improve catch monitoring and ensure compliance with the MSRA. The management measures developed in this amendment may address one or more of the following objectives:

1. To implement measures to improve the long-term monitoring of catch (landings and bycatch) in the herring fishery;

2. To implement ACLs and AMs consistent with the MSRA;

3. To implement other management measures as necessary to ensure compliance with the new provisions of the MSRA;

4. To develop a sector allocation process or other LAPP for the herring fishery; and

5. In the context of objectives 1-4 (above), to consider the health of the herring resource and the important role of herring as a forage fish and a predator fish throughout its range.

The Council will develop conservation and management measures to address the issues identified above and meet the goals/objectives of the amendment. Any conservation and management measures developed in this amendment also must comply with all applicable laws.

The Council is also considering measures in this amendment to address concerns about potential herring bycatch in the Atlantic mackerel fishery and is seeking scoping comments on this issue. The concerns relate to vessels that may be directing on mackerel without a limited access permit for herring, and consequently without the ability to retain the herring they may catch incidentally when targeting mackerel. The TAC in Areas 2 and 3 is not fully utilized at this time, so it may be appropriate to provide vessels in these areas an opportunity to retain the herring they may catch when fishing for mackerel. This may help to better achieve OY for the fishery, while minimizing bycatch.

All persons affected by or otherwise interested in herring management are invited to participate in determining the scope and significance of issues to be analyzed in Amendment 4 by submitting written comments (see ADDRESSES) or by attending one of the meetings where scoping comments will be taken. Scoping consists of identifying the range of actions, alternatives, and impacts to be considered. Alternatives include the following: Not amending the FMP (taking no action); developing an amendment that addresses the goal and objectives discussed in this notice; or other reasonable courses of action. Impacts may be direct, individual, or cumulative. This scoping process will also identify and eliminate from detailed analysis issues that are not significant. When, after the scoping process is completed, the Council proceeds with the development of an amendment to the Herring FMP, the Council will prepare an EIS to analyze the impacts of a range of alternatives under consideration. The Council will hold public hearings to receive comments on the draft amendment and on the analysis of its impacts presented in the EIS.

Scoping Hearing Schedule

The Council will discuss and take scoping comments at the following public meetings:

1. Thursday, May 22, 2008, 9 a.m.; Clarion Hotel Portland, 1230 Congress Street, Portland, ME 04102; telephone: (207) 774-5611.

2. Monday, June 2, 2008, 5 p.m.; Holiday Inn By The Bay, 88 Spring Street, Portland, ME 04101; telephone: (207) 775-2311.

3. Tuesday, June 10, 2008, 6 p.m.; Sheraton Atlantic City Convention Center Hotel, 2 Miss America Way, Atlantic City, NJ 08401; telephone: (609) 344-3535.

Special Accommodations

The meetings are accessible to people with physical disabilities. Requests for sign language interpretation or other auxiliary aids should be directed to Paul J. Howard (see ADDRESSES) at least 5 days prior to this meeting date.

Authority: 16 U.S.C. 1801 et seq.

Dated: May 1, 2008.
Emily H. Menashes,
Acting Director, Office of Sustainable Fisheries, National Marine Fisheries Service.

[FR Doc. E8-10275 Filed 5-7-08; 8:45 am]

BILLING CODE 3510-22-S